DEPARTMENT OF ENERGY

Federal Energy Regulatory Commission

[Project No. 7518-015]

Erie Boulevard Hydropower L.P.; Notice of Application Tendered for Filing With the Commission and Establishing Procedural Schedule for Licensing and Deadline for Submission of Final Amendments

Take notice that the following hydroelectric application has been filed with the Commission and is available for public inspection.

a. Type of Application: Subsequent License.

b. Project No.: 7518-015.

c. Date Filed: September 30, 2013.

d. Applicant: Erie Boulevard Hydropower L.P.

e. Name of Project: Hogansburg Hydroelectric Project.

f. Location: On the St. Regis River in Franklin County, New York. The project does not occupy any federal lands.

g. Filed Pursuant to: Federal Power Act, 16 U.S.C. 791(a)-825(r).

h. Applicant Contact: Steven Murphy, Brookfield Renewable Power, 33 West 1st Street South, Fulton, New York (315) 598-6130 or email at steven.murphy@brookfieldpower.com.

i. FERC Contact: John Mudre at (202) 502-8902 or email at john.mudre@ferc.gov.

j. This application is not ready for environmental analysis at this time.

k. Project Description: The existing Hogansburg Project consists of: (1) A reservoir having a surface area of about 18.6 acres and a maximum storage capacity of approximately 112 acre-feet; (2) a 247-foot-long, 11.5-foot-high concrete gravity dam with a spillway crest elevation of 165.2 feet above mean sea level; (3) a 34-foot-long, 22-foot-high stoplog gate structure; (4) a 45-foot by 48-foot integrated intake/powerhouse structure at the dam's right abutment; (5) a single S. Morgan Smith vertical propeller generating unit having a rated capacity of 485 kilowatts; (6) a 600-foot-long tailrace having varying widths between 24 feet and 100 feet; and (7) 2.4-kilovolt (kV) generator leads extending about 25 feet to an adjacent electrical substation containing a 2.4/4.8-kV, 600-kilovolt-amperes, step-up transformer bank. A transmission line owned and operated by National Grid Corporation connects directly to the substation. Power generated at the project interconnects with the electrical grid at the substation.

At the time the Commission issued the original license for the Hogansburg Project (1985), the Commission's regulations did not require minor projects occupying non-federal lands to have an established project boundary. Therefore, the boundary for the project is being established through this relicensing process.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | December 2013.
Filing of recommendations, preliminary terms and conditions, and fishway prescriptions | February 2014.
Commission issues Draft EA | August 2014.
Comments on Draft EA | September 2014.
Modified Terms and Conditions | November 2014.
Commission Issues Final EA | February 2015.

o. Final amendments to the application must be filed with the Commission no later than 30 days from the issuance date of the notice of ready for environmental analysis.

Dated: October 9, 2013.
Kimberly D. Bose,
Secretary.

[FR Doc. 2013-24504 Filed 10-17-13; 8:45 am]

BILLING CODE 6717-01-P